DEPARTMENT OF HEALTH AND HUMAN SERVICES

Administration for Children and Families

Submission for OMB Review; Community-Based Family Resource and Support Grants (Name Changed to Child Abuse Prevention Program—OIS Notified 6/2007) (OMB No.: 0970-0155)

AGENCY: Children's Bureau, Administration on Children, Youth and Families, HHS.

ACTION: Request for Public Comment.

SUMMARY: The Administration for Children and Families (ACF) is requesting a 3-year extension of the Program Instruction (PI) for the Community-Based Family Resource and Support Grants or the Community-Based Child Abuse Prevention (CBCAP) program (OMB No.: 0970-0155, expiration 3/31/2021), which outlines information collection requirements pursuant to receiving a grant award. There are no changes requested to the information collection process.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The PI, prepared in response to the enactment of the CBCAP program, as set forth in Title II of the Child Abuse Prevention and Treatment Reauthorization Act of 2010 (Public Law 111-320) or CAPTA, provides direction to the states and territories to accomplish the purposes of (1) supporting community-based efforts to develop, operate, expand, and where appropriate to network, initiatives aimed at the prevention of child abuse and neglect, and to support networks of coordinated resources and activities to better strengthen and support families to reduce the likelihood of child abuse and neglect; and (2) fostering an understanding, appreciation, and knowledge of diverse populations in order to be effective in preventing and treating child abuse and neglect. This PI contains information collection requirements that are found in CAPTA and pursuant to receiving a grant award. The information submitted will be used by the agency to ensure compliance with the statute, complete the calculation of the grant award entitlement, and provide training and technical assistance to the grantee.

Respondents: State governments, quasi-public entities, and non-profit private agencies.

Annual Burden Estimates
Instrument | Annual number of respondents | Annual number of responses per respondent | Average burden hours per response | Total annual burden hours
Application | 52 | 1 | 40 | 2,080
Annual Report | 52 | 1 | 24 | 1,248

Estimated Total Annual Burden Hours: 3,328.

Authority: The CAPTA Reauthorization Act of 2010; Title II of the CAPTA, Pub. L. 115-271 (42 U.S.C. 5116 et seq.).

Mary B.Jones,
ACF/OPRE Certifying Officer.

[FR Doc. 2021-05411 Filed 3-15-21; 8:45 am]

BILLING CODE 4184-01-P